DEPARTMENT OF THE INTERIOR

Bureau of Land Management

[OR-030-01-1020-XX: GP1-0011]

Notice of Meeting of John Day/Snake Resource Advisory Council

AGENCY: Vale District, Bureau of Land Management, Interior.

ACTION: Meeting of John Day/Snake Resource Advisory Council (RAC): Pendleton, Oregon, November 27-28, 2000.

SUMMARY: On November 27, 2000 at 10 a.m. there will be a meeting of the John Day/Snake RAC at the Red Lion Hotel, 304 Southeast Nye Avenue in Pendleton, Oregon. The meeting is open to the public. Public comments will be received at 10 a.m. on November 28, 2000. The following topics will be discussed by the council: Program of work, Hells Canyon Subgroup Charter review, RAC membership review, Schedule of Proposed Actions, Blue Mountain Demo Area Project, Social Economic Map update; OHV followup; A 15 minute round table for general issues.

FOR FURTHER INFORMATION CONTACT: Sandy L. Guches, Bureau of Land Management, Vale District Office, 100 Oregon Street, Vale, Oregon 97918, Telephone (541) 473-3144.

Sandy L. Guches,
Acting District Manager.

[FR Doc. 00-27466 Filed 10-25-00; 8:45 am]

BILLING CODE 4310-33-M